DEPARTMENT OF VETERANS AFFAIRS

[OMB Control No. 2900-NEW]

Agency Information Collection (Open Burn Pit Registry Airborne Hazard Self-Assessment Questionnaire) Activities Under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden and includes the actual data collection instrument.

DATES: Comments must be submitted on or before October 7, 2013.

ADDRESSES: Submit written comments on the collection of information through www.Regulations.gov, or to Office of Information and Regulatory Affairs, Office of Management and Budget, Attn: VA Desk Officer, 725 17th St. NW., Washington, DC 20503 or sent through electronic mail to oira_submission@omb.eop.gov. Please refer to “OMB Control No. 2900-0766” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-NEW, Open Burn Pit Registry Airborne Hazard Self-Assessment Questionnaire.”

SUPPLEMENTARY INFORMATION:

Title: Open Burn Pit Registry Airborne Hazard Self-Assessment Questionnaire, VA Form 10-10066.

Type of Review: New data collection.

Abstract: Web-based data will be collected to provide outreach and quality health services to Open Burn Pit Registry participants and improve VA's ability to understand the health effects of exposure. Participant health concerns, demographics, deployment information, environmental monitoring data, self-reported exposures, health status, and health care utilization will be monitored of over time through routine and adhoc analysis to improve health care programs and develop hypotheses for health effects exposure.

An agency may not conduct or sponsor, and a person is not required to respond to a collection of information unless it displays a currently valid OMB control number. The Federal Register Notice with a 60-day comment period soliciting comments on this collection of information was published on June 5, 2013, Vol. 78, No. 108, at pages 33894-33895.

Affected Public: Individuals or households.

Estimated Annual Burden: 33,333.

Estimated Average Burden per Respondent: 40 minutes.

Frequency of Response: Once.

Estimated Number of Respondents: 50,000.

Dated: September 3, 2013.
By direction of the Secretary.
Crystal Rennie,
VA Clearance Officer, U.S. Department of Veterans Affairs.

[FR Doc. 2013-21683 Filed 9-5-13; 8:45 am]

BILLING CODE 8320-01-P